NATIONAL SCIENCE FOUNDATION

Sunshine Act Meeting; National Science Board

The National Science Board's Committee on Oversight (CO), pursuant to NSF regulations (45 CFR part 614), the National Science Foundation Act, as amended (42 U.S.C. 1862n-5), and the Government in the Sunshine Act (5 U.S.C. 552b), hereby gives notice of the scheduling of a teleconference for the transaction of National Science Board business, as follows:

DATE and TIME: Friday, February 17, 2017 at 2:00 p.m. EST.

SUBJECT MATTER: (1) Discussion of NSF's efforts to identify and respond to risks related to the office move; and (2) discussion of the charge for the Committee.

STATUS: Open.

LOCATION: This meeting will be held by teleconference at the National Science Foundation, 4201 Wilson Blvd., Arlington, VA 22230. An audio link will be available for the public. Members of the public must contact the Board Office to request the public audio link by sending an email to nationalsciencebrd@nsf.gov at least 24 hours prior to the teleconference.

UPDATES and POINT OF CONTACT: Please refer to the National Science Board Web site www.nsf.gov/nsb for additional information. Meeting information and updates (time, place, subject matter or status of meeting) may be found at http://www.nsf.gov/nsb/notices/. Point of contact for this meeting is: Ann Bushmiller (abushmil@nsf.gov), 4201Wilson Blvd., Arlington, VA 22230.

Chris Blair,
Executive Assistant to the National Science Board Office.

[FR Doc. 2017-02968 Filed 2-9-17; 4:15 pm]

BILLING CODE 7555-01-P